Proclamation 10495 of November 10, 2022

National Apprenticeship Week, 2022

By the President of the United States of America

A Proclamation

During National Apprenticeship Week, we celebrate the workers of America—the best in the world—and lift up the importance of apprenticeship programs run by unions, employers, and other organizations. These programs train workers to hone a skill and craft that is going to rebuild America for the 21st century.

For many workers, especially those without college degrees, apprenticeships create a critical pathway to good-paying jobs. Registered apprentices earn while they learn. These programs, particularly through local unions, ensure that our Nation is producing the best-trained, best-prepared, and best-skilled workers for industries now and of the future—from health care and information technology to clean energy. Supporting Registered Apprenticeships is a key part of my economic vision to build an economy from the bottom up and the middle out: an economy that works for everyone.

That is why hundreds of millions of dollars from my American Rescue Plan and Bipartisan Infrastructure Law are dedicated to helping States, employers, labor organizations, and workforce intermediaries design, develop, and expand Registered Apprenticeships and pre-apprenticeship programs. That means jobs for electrical workers, pipefitters, carpenters, and more. I began an Apprenticeship Ambassador Initiative, which assembled a national network of businesses and labor organizations and secured from them a collective commitment to hire over 10,000 new apprentices in the next year alone. Our Administration's 90-Day Trucking Apprenticeship Challenge and 120-day Cybersecurity Apprenticeship Sprint bolstered this progress, garnering hundreds of private sector commitments for new apprenticeship programs in these critical sectors. With these efforts, our Nation hit record-setting employment in the trucking industry earlier this year. Additionally, nearly 150 public and private sector employers, unions, and community-based organizations have made training and apprenticeship commitments in the broadband, construction, and electrification sectors to promote equitable workforce development as part of my Talent Pipeline Challenge.

At the same time, we have cut red tape so companies can also more easily establish Registered Apprenticeship programs in just a matter of days. To ensure the American worker can ably compete in the global marketplace, I revoked an Executive Order that promoted less rigorous apprenticeships. I am also making sure that, as our economy grows and apprenticeship opportunities become more widely available, every community in America experiences these benefits. That means creating clean energy apprenticeships and jobs in frontline and fence-line communities that have suffered from the legacy of pollution. It also means continuing our support for initiatives like the Department of Labor's Women in Apprenticeship and Nontraditional Occupations grant program, which has trained women to enter the skilled trades and other occupations where they have been historically underrepresented. Diversifying pre-apprenticeship programs also plays a valuable role in expanding the pool of workers ready to take on a Registered Apprenticeship.

I have always believed that the middle class built America and that unions built the middle class. Registered Apprenticeships are a testament to the power of unions to deliver good-paying jobs that offer dignity and respect. They also reflect American workers' dedication and commitment to excellence. During National Apprenticeship Week, let us celebrate the apprentices of America, give our thanks to the mentors who train them, and remind ourselves of our ongoing responsibility to invest in the best workforce on the planet.

NOW, THEREFORE, I, JOSEPH R. BIDEN JR., President of the United States of America, by virtue of the authority vested in me by the Constitution and the laws of the United States, do hereby proclaim November 13 through November 19, 2022, as National Apprenticeship Week. I urge the Congress, State and local governments, educational institutions, industry and labor leaders, apprentices, and all Americans to support Registered Apprenticeship programs in the United States of America and to raise awareness of their importance in building a diverse and robust workforce to strengthen our national economy.

IN WITNESS WHEREOF, I have hereunto set my hand this tenth day of November, in the year of our Lord two thousand twenty-two, and of the Independence of the United States of America the two hundred and forty-seventh.

[FR Doc. 2022-25052

Filed 11-15-22; 8:45 am]

Billing code 3395-F3-P